ENVIRONMENTAL PROTECTION AGENCY

[FRL-10017-76-OMS]

Privacy Act of 1974; System of Records

AGENCY: Office of Mission Support (OMS), Environmental Protection Agency (EPA).

ACTION: Notice of a new system of records.

SUMMARY: The U.S. Environmental Protection Agency's (EPA), Office of Mission Support is giving notice that it proposes to create a new system of records pursuant to the provisions of the Privacy Act of 1974. Fleet Access (FA) is being created to comply with United States Code (U.S.C.) 175 Federal Motor Vehicle Expenditure Control and the General Services Administration (GSA) Federal Management Regulation (FMR) B-15 requiring all federal agencies store and maintain vehicle asset data collected in a Fleet Management Information System (FMIS).

DATES: Persons wishing to comment on this system of records notice must do so by March 25, 2021. New routine uses for this new system of records will be effective March 25, 2021.

ADDRESSES: Submit your comments, identified by Docket ID No. EPA-HQ-OMS-2020-0137, by one of the following methods:

Regulations.gov: www.regulations.gov. Follow the online instructions for submitting comments.

Email: oei.docket@epa.gov.

Fax: 202-566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2020-0137. The EPA policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA public docket, visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC 20460. The Public Reading Room is open from 8:30 a.m. to 4:30 p.m., Monday through Friday excluding legal holidays. The telephone number for the Public Reading Room is (202) 566-1744, and the telephone number for the OMS Docket is (202) 566-1752.

Out of an abundance of caution for members of the public and our staff, the EPA Docket Center and Reading Room are closed to the public, with limited exceptions, to reduce the risk of transmitting COVID-19. Our Docket Center staff will continue to provide remote customer service via email, phone, and webform. We encourage the public to submit comments via https://www.regulations.gov/ or email, as there may be a delay in processing mail and faxes. Hand deliveries and couriers may be received by scheduled appointment only. For further information on EPA Docket Center services and the current status, please visit us online at https://www.epa.gov/dockets.

FOR FURTHER INFORMATION CONTACT: General questions about the Fleet Access system should be made in writing to: James Cunningham, (202) 564-7212, Cunningham.James@epa.gov; Jackie Brown, (202) 564-0313, Brown.Jackie@epa.gov; and Jonathan Barnes, (202) 564-1950, Barnes.Jonathan@epa.gov.

SUPPLEMENTARY INFORMATION: Fleet Access stores vehicle level data such as license plate, VIN, make, model, acquisition value/and or lease rates as well as designations regarding alternative fuel, energy, and sustainability mandates. Fleet Access is used to produce an end-of-year report known as the Federal Automotive Statistical Tool Report (FAST Report) submitted jointly to the Department of Energy (DOE), the General Services Administration (GSA), and the Idaho National Lab (INL). The FAST report summarizes each vehicle's yearly data with respect to fuel, mileage, maintenance, acquisition, and disposal. Fleet Access also serves as a comprehensive standardized vehicle reservation system used by agency staff needing to reserve and utilize fleet vehicles for official agency business. Vehicle registration features of Fleet Access requires system users register personal business information in order to reserve agency fleet assets.

SYSTEM NAME AND NUMBER:

Fleet Access (FA)—EPA-85.

SECURITY CLASSIFICATION:

Unclassified.

SYSTEM LOCATION:

AgileFleet (Fleet Access Service Provider): 14101 Willard Rd., Suite A, Chantilly, VA 20151; AgileFleet (Fleet Access Datacenter): 600 West 7th Street, Los Angeles, CA 900021, System Managers: 1200 Pennsylvania Ave. NW, Washington, DC 20460.

SYSTEM MANAGER(S):

James Cunningham, IT Project Manager, 1200 Pennsylvania Ave. NW, Washington, DC 20460, Mail code 3101M, cunningham.james@epa.gov, 202-564-7212.

AUTHORITY FOR MAINTENANCE OF THE SYSTEM:

40 U.S.C. 175—Federal Motor Vehicle Expenditure Control; Sections 15301 and 15302 of the Consolidated Omnibus Budget Reconciliation Act of 1986 (Pub. L. 99-272) (40 U.S.C. 17502 and 17503); and General Services Administration (GSA) FMR B-15.

PURPOSE(S) OF THE SYSTEM:

Fleet Access (FA) is a contractor owned and operated system used by EPA to comply with the General Services Administration (GSA) FMR B-15 requirement that each federal agency store and maintain vehicle asset data collected in a Fleet Management Information System (FMIS). The FA system serves two primary purposes: First, to store vehicle level data such as license plate, VIN, make, model, acquisition value/lease rates, designations regarding alternative fuel, energy and sustainability mandates. Which is used to produce the Federal Automotive Statistical Tool Report (FAST Report) as an end of year report. This end of year report is submitted jointly to the Department of Energy (DOE), the GSA, and the Idaho National Lab (INL). The FAST report summarizes each vehicle's annual data with respect to fuel, mileage, maintenance, acquisition, and disposal. And second, it is used by EPA's Fleet program management, regional, local staff and support contractors as a standardized vehicle reservation system to reserve and utilize fleet vehicles for official agency business.

CATEGORIES OF INDIVIDUALS COVERED BY THE SYSTEM:

The categories of individuals covered by this system include EPA employees and EPA Contractors.

CATEGORIES OF RECORDS IN THE SYSTEM:

PII collected includes: Last Name, First Name, Work Phone Number, Work Email Address, Driver's License Expiration Date, and Profile Picture.

RECORD SOURCE CATEGORIES:

Fleet Access is a data management system that allows authorized EPA employees and contractors to store/maintain vehicle asset data and reserve agency vehicles across various programs/regions. PII information is collected directly from the user via an online registration form.

ROUTINE USES OF RECORDS MAINTAINED IN THE SYSTEM, INCLUDING CATEGORIES OF USERS AND PURPOSES OF SUCH USES:

The following new or modified routine uses apply to this system because the use of the record is necessary for the efficient conduct of government. The routine uses are related to and compatible with the original purpose for which the information was collected.

A. Disclosure of Law Enforcement Purposes: Information may be disclosed to the appropriate Federal, State, local, tribal, or foreign agency responsible for investigating, prosecuting, enforcing, or implementing a statute, rule, regulation, or order, if the information is relevant to a violation or potential violation of civil or criminal law or regulation within the jurisdiction of the receiving entity.

B. Disclosure Incident to Requesting Information: Information may be disclosed to any source from which additional information is requested (to the extent necessary to identify the individual, inform the source of the purpose of the request, and to identify the type of information requested,) when necessary to obtain information relevant to an agency decision concerning retention of an employee or other personnel action (other than hiring), retention of a security clearance, the letting of a contract, or the issuance or retention of a grant or other benefit.

C. Disclosure to Requesting Agency: Disclosure may be made to a Federal, State, local, foreign, or tribal or other public authority of the fact that this system of records contains information relevant to the retention of an employee, the retention of a security clearance, the letting of a contract, or the issuance or retention of a license, grant or other benefit. The other agency or licensing organization may then make a request supported by the written consent of the individual for the entire record if it so chooses. No disclosure will be made unless the information has been determined to be sufficiently reliable to support a referral to another office within the agency or to another Federal agency for criminal, civil, administrative, personnel or regulatory action.

D. Disclosure of Office of Management and Budget: Information may be disclosed to the Office of Management and Budget (OMB) at any stage in the legislative coordination and clearance process in connection with private relief legislation as set forth in OMB Circular No. A-19.

E. Disclosure to Congressional Offices: Information may be disclosed to a congressional office from the record of an individual in response to an inquiry from the congressional office made at the request of the individual.

F. Disclosure to Department of Justice: Information may be disclosed to the Department of Justice, or in a proceeding before a court, adjudicative body, or other administrative body before which the Agency is authorized to appear, when:

1. The Agency, or any component thereof;

2. Any employee of the Agency in his or her official capacity;

3. Any employee of the Agency in his or her individual capacity where the Department of Justice or the Agency have agreed to represent the employee; or

4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected.

G. Disclosure of National Archives: Information may be disclosed to the National Archives and Records Administration in records management inspections.

H. Disclosure to Contractors, Grantees, and Others: Information may be disclosed to contractors, grantees, consultants, or volunteers performing or working on a contract, service, grant, cooperative agreement, job, or other activity for the Agency and who have a need to have access to the information in the performance of their duties or activities for the Agency. When appropriate, recipients will be required to comply with the requirements of the Privacy Act of 1974 as provided in 5 U.S.C. 552a(m).

I. Disclosures of Administrative Claims, Complaints and Appeals: Information from this system of records may be disclosed to an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, the Office of Personnel Management, Office of Special Counsel, Merit Systems Protection Board, Federal Labor Relations Authority, Equal Employment Opportunity Commission and Office of Government Ethics.

J. Disclosure to the Office of Personnel Management: Information from this system of records may be disclosed to the Office of Personnel Management pursuant to that agency's responsibility for evaluation and oversight of Federal personnel management.

K. Disclosure in Connection with Litigation: Information from this system of records may be disclosed in connection with litigation or settlement discussions regarding claims by or against the Agency, including public filing with a court, to the extent that disclosure of the information is relevant and necessary to the litigation or discussions and except where court orders are otherwise required under section (b)(11) of the Privacy Act of 1974, 5 U.S.C. 552a(b)(11).

L. Disclosure to Persons or Entities in Response to an Actual of Suspected Breach of Personally Identifiable Information: To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

M. Disclosure to assist another agency in its efforts to respond to a breach: To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The information collected within Fleet Access is maintained and stored in a database hosted by Aptum, a DataCenter Service Provider located at 600 West 7th Street, Los Angeles, California 900021 in accordance to the EPA record retention schedule 00-90-Administrative Support Databases. And EPA Record Schedule 1009—Motor Vehicles and Personal Property.

POLICIES AND PRACTICES FOR RETRIEVAL OF RECORDS:

Records for Fleet Access are retrievable by User ID and Last Name.

POLICIES AND PRACTICES FOR RETENTION AND DISPOSAL OF RECORDS:

Fleet Access complies with EPA Records Schedule 0090-Administrative Support Databases and EPA Record Schedule 1009—Motor Vehicles and Personal Property. Personnel information is retained for as long as the user or administrator determines necessary, generally, as long as the individual is employed by the EPA and requires vehicle reservation access. If a person no longer needs to reserve a vehicle for agency business, their user information is deleted permanently, in accordance with EPA Record Schedule 1009. Vehicle data is stored for a minimum of 3 years.

ADMINISTRATIVE, TECHNICAL, AND PHYSICAL SAFEGUARDS:

Security controls used to protect personal sensitive data in Fleet Access are commensurate with those required for an information system rated moderate for confidentiality, integrity, and availability, as prescribed in NIST Special Publication, 800-53, “Recommended Security Controls for Federal Information Systems,” Revision 4.

1. Administrative Safeguards: Personnel are required to complete annual agency Information Security and Privacy training. Personnel are instructed to lock their computers when they leave their desks.

2. Technical Safeguards: Access to Fleet Access is restricted to authorized users via login by username and password. All application passwords are encrypted in the database. User passwords cannot be seen by the administrators. The application is web-based, and user sessions encrypted. Authorized users are defined by an application administrator from within the application. Permission structures are currently role-based and are applied individually by an application administrator as needed.

3. Physical Safeguards: Equipment used for the purposes of hosting the Fleet Access is in a secure facility. Access to the secure facility is restricted to employees displaying valid identification badges. Access to the Network Operations Center is limited to authorized, network administrators and requires successful validation by additional authentication mechanisms. Access to the secure facility is logged. Power to the facility is insured by both battery backup and diesel generator. Fire suppression systems are in place.

The facility is staffed 24-hours-a-day, seven days a week.

RECORD ACCESS PROCEDURES:

Individuals seeking access to information in this system of records about themselves are required to provide adequate identification (e.g., driver's license, military identification card, employee badge or identification card). Additional identity verification procedures may be required, as warranted. Requests must meet the requirements of EPA regulations that implement the Privacy Act of 1974, at 40 CFR part 16.

CONTESTING RECORD PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, should make a written request to the Attn: Agency Privacy Officer, MC 2831T, 1200 Pennsylvania Ave. NW, Washington, DC 20460, privacy@epa.gov.

EXEMPTIONS PROMULGATED FOR THE SYSTEM:

None.

HISTORY:

None.

Vaughn Noga,
Senior Agency Official for Privacy.

[FR Doc. 2021-03583 Filed 2-22-21; 8:45 am]

BILLING CODE 6560-50-P